DEPARTMENT OF THE INTERIOR

[2253-665]

National Park Service

Notice of Inventory Completion: Washington State University, Museum of Anthropology, Pullman, WA

AGENCY: National Park Service, Interior.

ACTION: Notice.

SUMMARY: The Washington State University, Museum of Anthropology (WSU) has completed an inventory of human remains and associated funerary objects, in consultation with the appropriate Indian tribes, and has determined that there is a cultural affiliation between the human remains and associated funerary objects and present-day Indian tribes. Representatives of any Indian tribe that believes itself to be culturally affiliated with the human remains and associated funerary objects may contact WSU. Repatriation of the human remains and associated funerary objects to the Indian tribes stated below may occur if no additional claimants come forward.

DATES: Representatives of any Indian tribe that believes it has a cultural affiliation with the human remains and associated funerary objects should contact WSU at the address below by December 29, 2011.

ADDRESSES: Mary Collins, Director, Washington State University, Museum of Anthropology, Pullman, WA 99164-4910, telephone (509) 335-4314.

SUPPLEMENTARY INFORMATION: Notice is here given in accordance with the Native American Graves Protection and Repatriation Act (NAGPRA), 25 U.S.C. 3003, of the completion of an inventory of human remains and associated funerary objects in the possession of the Washington State University, Museum of Anthropology. The human remains and associated funerary objects were removed from Franklin County, WA, and an unknown location along the Lower Snake River.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and funerary objects was made by the WSU professional staff in consultation with representatives of the Confederated Tribes of the Colville Reservation, Washington; Nez Perce Tribe, Idaho; Confederated Tribes of the Umatilla Reservation, Oregon; Confederated Tribes of the Warm Springs Reservation of Oregon; Confederated Tribes and Bands of the Yakama Nation, Washington (hereinafter referred to as “The Tribes”); and the Wanapum Band, a non-Federally recognized Indian group (hereinafter referred to as “The Indian Group”).

History and Description of the Remains

At some date between 1950 and 1970, human remains representing, at minimum, three individuals were removed from an unknown site in Franklin or Benton County, WA. The human remains were found among other archeological materials from sites excavated during this time period along the Lower Snake River. The remains, however, do not match any of the descriptions of excavated remains from any of the known sites. It is believed that these remains were excavated from one of several known burial sites along the Lower Snake River as archeologists at WSU were working at such sites between 1950 and 1970. The labels associated with the remains include burial numbers but not site numbers. No known individuals were identified. The 18 associated funerary objects are 1 projectile point, 3 lots of bag residue, 2 lots of plant remains, 3 lots of wood fragments, 1 lot of metal fragments, 1 lot of leather fragments, 1 lot of glass fragments, 2 lots of flakes, 1 lot of ceramic fragments, 2 lots of fabric fragments, and 1 lot of paper bags.

In 1958, human remains representing, at minimum, three individuals were removed from Site 45FR1 (also known as 45FR42 or Fishhook Island) in Franklin County, WA by members of the Columbia Archaeological Society (CAS). Notes made by the CAS describe the burials as being of a late pre-contact age because of the lack of items of Euro-American manufacture among the associated funerary items. Correspondence between the CAS and Richard Daugherty, who was a member of the Anthropology faculty at WSU in 1958, discuss the possible deposition of the human remains and artifacts from these excavations at WSU but there is no record of such a deposit. The remains were found among a large set of remains known as the former “WSU Teaching Collection” which was used between 1968 and 1995. No known individuals were identified. No associated funerary objects are present.

Determinations Made by the Washington State University, Museum of Anthropology

Officials of WSU have determined that:

• Pursuant to 25 U.S.C. 3001(9), the human remains described in this notice represent the physical remains of six individuals of Native American ancestry.

• Pursuant to 25 U.S.C. 3001(3)(A), the 18 objects described above are reasonably believed to have been placed with or near individual human remains at the time of death or later as part of the death rite or ceremony.

• Pursuant to 25 U.S.C. 3001(2), there is a relationship of shared group identity that can be reasonably traced between the Native American human remains and associated funerary objects, The Tribes, and The Indian Group.

Additional Requestors and Disposition

Representatives of any Indian tribe that believes itself to be culturally affiliated with the human remains and associated funerary objects should contact Mary Collins, Director, Washington State University, Museum of Anthropology, telephone (509) 335-4314, before December 29, 2011. Repatriation of the human remains and associated funerary objects to The Tribes and The Indian Group may proceed after that date if no additional claimants come forward.

Washington State University, Museum of Anthropology, is responsible for notifying The Tribes and The Indian Group that this notice has been published.

Dated: November 22, 2011.
Sherry Hutt,
Manager, National NAGPRA Program.

[FR Doc. 2011-30625 Filed 11-28-11; 8:45 am]

BILLING CODE 4312-50-P